NUCLEAR REGULATORY COMMISSION

Sunshine Act Meeting

Agency Holding the Meeting: Nuclear Regulatory Commission.

Date: Weeks of March 29, April 5, 12, 19, 26, May 3, 2004.

Place: Commissioners' Conference Room, 11555 Rockville Pike, Rockville, Maryland.

Status: Public and Closed.

Matters To Be Considered:

Week of March 29, 2004

There are no meetings scheduled for the Week of March 29, 2004.

Week of April 5, 2004—Tentative

There are no meetings scheduled for the Week of April 5, 2004.

Week of April 12, 2004—Tentative

Tuesday, April 13, 2004

9:30 a.m. Briefing on Status of Office of Nuclear Regulatory Research (RES) Programs, Performance, and Plans (Public Meeting) (Contact: Alan Levin, (301) 415-6656). This meeting will be webcast live at the Web address— www.nrc.gov.

Week of April 19, 2004—Tentative

There are no meetings scheduled for the Week of April 19, 2004.

Week of April 26, 2004—Tentative

Wednesday, April 28, 2004

9:30 a.m. Discussion of Security Issues (closed—ex. 1).

Week of May 3, 2004—Tentative

Tuesday, May 4, 2004

9:30 a.m. Briefing on Results of the Agency Action Review Meeting (Public Meeting) (Contact: Bob Pascarelli, (301) 415-1245). This meeting will be webcast live at the Web address— www.nrc.gov.

Thursday, May 6, 2004

1:30 p.m. Meeting with Advisory Committee on Reactor Safeguards (ACRS) (Public Meeting) (Contact: John Larkins, (301) 415-7360). This meeting will be webcast live at the Web address— www.nrc.gov.

The schedule for Commission meetings is subject to change on short notice. To verify the status of meetings call (recording)—(301) 415-1292. Contact person for more information: Dave Gamberoni, (301) 415-1651.

* * * * *

Additional Information

By a vote of 3-0 on March 16 and 18, the Commission determined pursuant to U.S.C. 552b(e) and § 9.107(a) of the Commission's rules that “Discussion of Security Issues (closed—ex. 1 & 2)” be held March 22, and on less than one week's notice to the public.

By a vote of 3-0 on March 23, the Commission determined pursuant to U.S.C. 552b(e) and § 9.107(a) of the Commission's rules that “Affirmation of (1) Private Fuel Storage, LLC (Independent Spent Fuel Storage Installation) Intervenor Ohngo Gaudadeh Devia's Motion to Reopen the Case Record on Contention “O”—Environmental Justice, and (2) Private Fuel Storage (Independent Spent Fuel Storage Installation) Docket No. 72-22-ISFI” be held on March 24, and on less than one week's notice to the public.

* * * * *

The NRC Commission Meeting Schedule can be found on the Internet at www.nrc.gov/what-we-do/policy-making/schedule.html.

* * * * *

This Notice is distributed by mail to several hundred subscribers; if you no longer wish to receive it, or would like to be added to the distribution, please contact the Office of the Secretary, Washington, DC 20555 ((301) 415-1969). In addition, distribution of this meeting notice over the Internet system is available. If you are interested in receiving this Commission meeting schedule electronically, please send an electronic message to dkw@nrc.gov.

Dated: March 25, 2004.
Dave Gamberoni,
Office of the Secretary.

[FR Doc. 04-7161 Filed 3-26-04; 9:54 am]

BILLING CODE 7590—01—M